DEPARTMENT OF HEALTH AND HUMAN SERVICES

Food and Drug Administration

[Docket No. FDA-2008-D-0372]

Global Harmonization Task Force, Study Groups 1 and 5; Proposed and Final Documents; Availability; Correction

AGENCY: Food and Drug Administration, HHS.

ACTION: Notice; correction.

SUMMARY: The Food and Drug Administration (FDA) is correcting a notice that appeared in the Federal Register of July 11, 2008 (73 FR 39968). The notice announced the availability of Global Harmonization Task Force documents entitled “Role of Standards” and “Clinical Investigations.” The notice was published with an incorrect document number. This document corrects that number.

FOR FURTHER INFORMATION CONTACT: Paul Gadiock, Center for Devices and Radiological Health (HFZ-215), Food and Drug Administration, 1350 Piccard Dr., Rockville, MD 20850, 240-276-2343.

SUPPLEMENTARY INFORMATION: In FR Doc. E8-15797, appearing on page 39968 in the Federal Register of Friday, July 11, 2008, the following correction is made:

1. On page 39968, in the third column, in the third paragraph, in the 8th and 9th lines, “SG5(PD)/N37:2007” is corrected to read “SG5(PD)/N3R7:2007.”

Dated: September 11, 2008.
Jeffrey Shuren,
Associate Commissioner for Policy and Planning.

[FR Doc. E8-22094 Filed 9-19-08; 8:45 am]

BILLING CODE 4160-01-S